DEPARTMENT OF HEALTH AND HUMAN SERVICES

Centers for Medicare & Medicaid Services

[Document Identifier: CMS-10169]

Agency Information Collection Activities: Submission for OMB Review; Comment Request

AGENCY: Centers for Medicare & Medicaid Services.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Revised collection; Title of Information Collection: Round 1 Rebid and Disclosure of Subcontracting Relationships for the Durable Medical Equipment, Prosthetics, Orthotics, and Supplies (DMEPOS) Competitive Bidding Program; Use: The Centers for Medicare and Medicaid Services (CMS) will conduct competitive bidding programs in which certain suppliers will be awarded contracts to provide competitively bid DMEPOS items to Medicare beneficiaries in a competitive bidding area (CBA). CMS conducted its first round of bidding in 2007 which was implemented on July 1, 2008. The first round of bidding was subsequently delayed by section 154 of the Medicare Improvements for Patients and Providers Act of 2008 (MIPPA). MIPPA mandates certain changes to the competitive bidding program which include, but are not limited to: a delay of Rounds 1 (bidding to begin in 2009) and 2 of the program (bidding to begin in 2011); the exclusion of Puerto Rico and negative pressure wound therapy (NPWT) from Round 1 and group 3 complex rehabilitative power wheelchairs from all rounds of competition; a process for providing feedback to suppliers regarding missing financial documentation; and a requirement for contract suppliers to disclose to CMS information regarding subcontracting relationships.

For the 2009 round of competitive bidding, also known as the Round 1 Rebid, CMS will publish a slightly modified version of the Request For Bids (RFB) instructions and accompanying forms so that suppliers will be better able to identify and understand the requirements to submit a bid in the competitive bidding program. We have also modified the format of some of these documents to make them more reader-friendly and help ease the burden of bid submission.

Additionally, for suppliers that are awarded a contract, CMS will collect information on contract supplier subcontracting relationships. Suppliers entering into a contract with CMS must disclose information on each subcontracting arrangement that the supplier has to furnish items and services under the contract and whether each subcontractor meets the accreditation requirements. The purpose of collecting this information is to comply with the disclosure requirement on subcontractors in section 154 of MIPPA. Form Number: CMS-10169 (OMB#: 0938-1016); Frequency: Reporting—Every three years; Affected Public: Business or other for-profit, Not-for-profit institutions; Number of Respondents: 6,900; Total Annual Responses: 6,900; Total Annual Hours: 442,600. (For policy questions regarding this collection contact Walter Rutemueller at 410-786-5395. For all other issues call 410-786-1326.)

To obtain copies of the supporting statement and any related forms for the proposed paperwork collections referenced above, access CMS Web site address at http://www.cms.hhs.gov/PaperworkReductionActof1995, or E-mail your request, including your address, phone number, OMB number, and CMS document identifier, to Paperwork@cms.hhs.gov, or call the Reports Clearance Office on (410) 786-1326.

To be assured consideration, comments and recommendations for the proposed information collections must be received by the OMB desk officer at the address below, no later than 5 p.m. on June 18, 2009.

OMB, Office of Information and Regulatory Affairs, Attention: CMS Desk Officer. Fax Number: (202) 395-6974. E-mail: OIRA_submission@omb.eop.gov.

Dated: May 12, 2009.
Michelle Shortt,
Director, Regulations Development Group, Office of Strategic Operations and Regulatory Affairs.

[FR Doc. E9-11629 Filed 5-14-09; 4:15 pm]

BILLING CODE 4120-01-P